INTERNATIONAL TRADE COMMISSION

[Investigation No. 337-TA-1204]

Certain Chemical Mechanical Planarization Slurries and Components Thereof; Notice of a Commission Determination Not To Review an Initial Determination Granting Complainant's Motion To Amend the Complaint and the Notice of Investigation

AGENCY: U.S. International Trade Commission.

ACTION: Notice.

SUMMARY: Notice is hereby given that the U.S. International Trade Commission has determined not to review an initial determination (“ID”) (Order No. 13) of the presiding administrative law judge (“ALJ”) granting the complainant's motion to amend the complaint and the notice of investigation to change the name of a respondent.

FOR FURTHER INFORMATION CONTACT: Michael Liberman, Esq., Office of the General Counsel, U.S. International Trade Commission, 500 E Street SW, Washington, DC 20436, telephone (202) 205-2392. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On July 7, 2020, the Commission instituted this investigation under section 337 of the Tariff Act of 1930, as amended, 19 U.S.C. 1337 (“section 337”), based on a complaint filed by Cabot Microelectronics Corporation of Aurora, Illinois. 85 FR 40685-86 (Jul. 7, 2020). The complaint alleges a violation of section 337 in the importation into the United States, the sale for importation, or the sale within the United States after importation of certain chemical mechanical planarization slurries and components thereof by reason of infringement of one or more claims of U.S. Patent No. 9,499,721 (“the '721 patent”). The complaint also alleges the existence of a domestic industry. The notice of investigation names as respondents DuPont de Nemours, Inc. of Wilmington, Delaware; Rohm and Haas Electronic Materials CMP Inc. of Newark, Delaware; Rohm and Haas Electronic Materials CMP Asia Inc. (d/b/a Rohm and Haas Electronic Materials CMP Asia Inc., Taiwan Branch (U.S.A.)) of Taoyuan City, Taiwan; Rohm and Haas Electronic Materials Asia-Pacific Co., Ltd. of Miaoli, Taiwan; Rohm and Haas Electronic Materials K.K. of Tokyo, Japan; and Rohm and Haas Electronic Materials LLC of Marlborough, Massachusetts. Id. at 40686. The Commission's Office of Unfair Import Investigations is also named as a party in this investigation. Id. Subsequently, the Commission amended the complaint and the notice of investigation, thus permitting complainant to assert infringement of additional claims of the '721 patent. Order No. 7 (Oct. 1, 2020), unreviewed by Notice (Oct. 19, 2020). See 85 FR 67371-72 (Oct. 22, 2020). The Commission also amended the complaint and the notice of investigation to change the name of complainant from Cabot Microelectronics Corporation to CMC Materials, Inc. (“CMC”). Order No. 8 (Nov. 10, 2020), unreviewed by Notice (Nov. 24, 2020). See 85 FR 77238 (Dec. 1, 2020).

On January 14, 2021, complainant CMC filed an unopposed motion for leave to amend the complaint and the notice of investigation to reflect the conversion of Rohm and Haas Electronic Materials, Inc. to Rohm and Haas Electronic Materials CMP, LLC. No response was filed.

On January 26, 2021, the ALJ issued the subject ID (Order No. 13) pursuant to Commission Rule 210.14(b)(1), 19 CFR 210.14(b)(1), granting complainant's motion. The ID finds good cause for the amendment as “reflecting the legal entity status of all Respondent entities will provide clarity to this investigation.” ID at 1-2. The ID further finds that the amendment would not prejudice the public interest or the rights of the parties to the investigation. Id. No party petitioned for review of the ID.

The Commission has determined not to review the subject ID. Named respondent Rohm and Haas Electronic Materials, Inc. has been changed to Rohm and Haas Electronic Materials CMP, LLC.

The Commission vote for this determination took place on February 11, 2021.

The authority for the Commission's determination is contained in section 337 of the Tariff Act of 1930, as amended, 19 U.S.C. 1337, and in Part 210 of the Commission's Rules of Practice and Procedure, 19 CFR part 210.

By order of the Commission.
Issued: February 12, 2021.
Katherine Hiner,
Supervisory Attorney.

[FR Doc. 2021-03279 Filed 2-17-21; 8:45 am]

BILLING CODE 7020-02-P